SECURITIES AND EXCHANGE COMMISSION

[SEC File No. 270-249, OMB Control No. 3235-0258]

Submission for OMB Review; Comment Request; Extension: Form F-1

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form F-1 (17 CFR 239.31) is used by certain foreign private issuers to register securities pursuant to the Securities Act of 1933 (15 U.S.C. 77a et seq.). The information collected is intended to ensure that the information required to be filed by the Commission permits verification of compliance with securities law requirements and assures the public availability of such information. Form F-1 takes approximately 1,615.64 hours per response and is filed by approximately 66 respondents. We estimate that 25% of the 1,615.64 hours per response (403.91 hours) is prepared by the registrant for a total annual reporting burden of 26,658 hours (403.91 hours per response × 66 responses). An agency may conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by November 14, 2022 to (i) www.reginfo.gov/public/do/PRAMain and (ii) David Bottom, Director/Chief Information Officer, Securities and Exchange Commission, c/o John Pezzullo, 100 F Street NE, Washington, DC 20549, or by sending an email to: PRA_Mailbox@sec.gov.

Dated: October 5, 2022.
J. Matthew DeLesDernier,
Deputy Secretary.

[FR Doc. 2022-22095 Filed 10-11-22; 8:45 am]

BILLING CODE 8011-01-P